DEPARTMENT OF JUSTICE

Antitrust Division

Notice Pursuant to the National Cooperative Research and Production Act of 1993—Biopharmaceutical Manufacturing Preparedness Consortium

Notice is hereby given that, on July, 24, 2025, pursuant to section 6(a) of the National Cooperative Research and Production Act of 1993, 15 U.S.C. 4301 et seq. (“the Act”), Biopharmaceutical Manufacturing Preparedness Consortium (“BIOMAP-CONSORTIUM”) has filed written notifications simultaneously with the Attorney General and the Federal Trade Commission disclosing changes in its membership. The notifications were filed for the purpose of extending the Act's provisions limiting the recovery of antitrust plaintiffs to actual damages under specified circumstances. Specifically, Public Health Vaccines LLC, Cambridge, MA; International AIDS Vaccine Initiative, New York, NY; Matisse Pharmaceuticals, B.V., Geleen, KINGDOM OF THE NETHERLANDS; Ayala Engineering & Consulting LLC, San Antonio, TX; Kansas State University, Manhattan, KS; Research & Development Plus LLC, Charleston, SC; Sequence, Inc., Morrisville, NC; Xcellon Biologics, Rockville, MD; Equitech-bio, Inc., Kerrville, TX; Lacamas Laboratories, Inc., Portland, OR; Pluri Biotech LTD, Haifa, STATE OF ISRAEL; Rosewater Consulting LLC, Charleston, SC; toXcel LLC, Gainesville, VA; Biodextris, Inc., Laval, CANADA; ARNAV Biotech, Atlanta, GA; CBRE, Inc., Radnor, PA; CMIC CMO USA Corporation, Cranbury, NJ; F. P. Developments, Inc., Williamstown, NJ; Global Resonance Technologies LLC, Shelburne, VT; Artis BioSolutions, Carlsbad, CA; DSBio Consulting LLC, Annapolis, MD; OnePointOne, Inc., Avondale, AZ; and ViQi, Inc., Santa Barbara, CA; have been added as parties to this venture.

No other changes have been made in either the membership or planned activity of the group research project. Membership in this group research project remains open, and the BIOMAP-CONSORTIUM intends to file additional written notifications disclosing all changes in membership.

On January 5, 2024, the BIOMAP-CONSORTIUM filed its original notification pursuant to section 6(a) of the Act. The Department of Justice published a notice in the Federal Register pursuant to section 6(b) of the Act on April 16, 2024 (89 FR 26923).

The last notification was filed with the Department on April 10, 2025. A notice was published in the Federal Register pursuant to section 6(b) of the Act on January 2, 2026 (91 FR 164).

Suzanne Morris,
Deputy Director Civil Enforcement Operations, Antitrust Division.

[FR Doc. 2026-00953 Filed 1-16-26; 8:45 am]

BILLING CODE P